DEPARTMENT OF THE INTERIOR

Bureau of Indian Affairs

Privacy Act of 1974, as Amended; Establishment of a New System of Records

AGENCY: Bureau of Indian Affairs, Interior.

ACTION: Notice of addition of a new system of records.

SUMMARY: The Department of the Interior (DOI), Bureau of Indian Affairs (BIA) is issuing public notice of its intent to add a new Privacy Act system of records to its inventory of records systems subject to the Privacy Act of 1974 (5 U.S.C. 552a). This action is necessary to meet the requirements of the Privacy Act to publish in the Federal Register notice of the existence and character of records systems maintained by the agency (5 U.S.C. 552a(e)(4)). The new Privacy Act system of records is entitled “Interior BIA-27: BIA Probate Files.”

DATES: The proposed new system of records will become effective without further notice on April 9, 2007, unless comments received result in a contrary determination. Under 5 U.S.C. 552a(e)(11), the public is provided a 30-day period in which to comment on the agency's intended use of the information in the system of records. The Office of Management and Budget (OMB), in its Circular A-130, requires an additional 10-day period in which OMB may comment (for a total of 40 days in which to make these comments). BIA will publish a subsequent notice if changes are made based on review of comments received.

ADDRESSES: Interested individuals may submit comments on this publication to Director, Special Projects Office, Western Regional Office, Bureau of Indian Affairs, 400 N. 5th Street, 10th Floor, Phoenix, AZ 85004, or fax to (602) 379-4005.

FOR FURTHER INFORMATION CONTACT: For information regarding BIA-27 Probate, contact Bill Titchywy, Director, Special Projects Office, Western Regional Office, Bureau of Indian Affairs, 400 N. 5th Street, 10th Floor, Phoenix, AZ 85004, (602) 379-4002.

SUPPLEMENTARY INFORMATION: This notice is published pursuant to the Privacy Act of 1974 (5 U.S.C. 552a(e)(4)) and is in exercise of authority delegated by the Secretary of the Interior to the Principal Deputy Assistant Secretary—Indian Affairs in 209 DM 8.1. This notice establishes the Privacy Act system of records entitled “Interior BIA-27: BIA Probate Files.” The purpose of this system is to provide information on the types of records assembled in BIA for the purpose of processing a probate file and the categories of records associated with the probate program. BIA assembles and maintains these files with regard to any given probate of an estate of a decedent who owned trust or restricted Indian land, then provides the file to the Office of Hearings and Appeals for use in the adjudication process. The records include both hard copy and electronic copy, stored in software called ProTrac. The ProTrac software stores information related to individual Indian estates and allows BIA probate personnel to track information related to each estate and search the information during the probate process. ProTrac allows BIA probate personnel to obtain listings of deaths, obtain the status on any estate, and measure progress, correctness, and timeliness of work done on probate cases.

ProTrac is proposed to interface with both the Trust Asset and Accounting Management System (TAAMS) and the Trust Fund Accounting System (TFAS) to ensure that the information in ProTrac necessary for probate functions is as up-to-date as possible and that information affected by probate in TAAMS and TFAS is updated.

Dated: February 7, 2007.
Michael D. Olsen,
Principal Deputy Assistant Secretary—Indian Affairs.

INTERIOR/BIA-27

System name:

Bureau of Indian Affairs Probate Files.

Security classification:

None.

System location:

(1) Bureau of Indian Affairs Central Office, 1849 C Street, NW., MS 4641, MIB, Washington, DC 20240, and (2) Bureau of Indian Affairs Regional Offices at: Alaska, Eastern, Eastern Oklahoma, Great Plains, Midwest, Navajo, Northwest, Pacific, Rocky Mountain, Southern Plains, Southwest, and Western. (For a listing of specific locations, contact the System Manager.) These locations have access to the ProTrac software.

Categories of individuals covered by the system:

Individuals who are potential heirs, legatees, devisees, creditors, or parties interested in the estate of a decedent owning Indian land in trust or restricted status or who provide information to the BIA on the decedent.

Categories of records in the system:

Records in the system fall into the following categories:

• Originals or copies of all wills, codicils, and revocations, or other evidence that a will may exist;

• Social Security Numbers of the decedent, legatees, and probable heirs or devisees;

• The place(s) of enrollment and the tribal enrollment or census numbers of the decedent and potential heirs, legatees, or devisees;

• Current names and addresses of the decedent's potential heirs, legatees, and devisees;

• Any sworn statements regarding the decedent's family, including any statements of paternity or maternity;

• Any statements renouncing an interest in the estate including identification of the person or entity in whose favor the interest is renounced, if any;

• A list of known claims by creditors of the decedent against the estate and their addresses, including copies of any court judgments;

• Documents, certified if possible, from the appropriate authorities concerning the public record of the decedent, including but not limited to: (1) Any marriage licenses or divorce decrees of the decedent; (2) adoption and guardianship records concerning the decedent or the decedent's potential heirs, legatees, or devisees; (3) use of other names by the decedent, including copies of name changes by court order; and (4) orders requiring payment of child support;

• The evidence of death of the decedent, such as a death certificate;

• A completed Form OHA-7, “Data for Heirship Findings and Family History,” certified by BIA, with the enrollment or other identifying number shown for each potential heir or devisee, if such number has been assigned;

• Information provided by potential heirs, legatees, devisees or the tribes regarding: (1) Whether the heirs, legatees, and devisees meet the definition of “Indian” for probate purposes, including enrollment or eligibility for enrollment in a tribe; (2) whether the potential heirs, legatees, or devisees are within two degrees of consanguinity of an “Indian,” in accordance with the Indian Land Consolidation Act, 25 U.S.C. 2201 et seq.; and (3) whether an individual qualifies as an “Indian” because of an ownership interest in trust or restricted land, and if so, identification of the date on which the individual became the owner of the trust or restricted interest;

• A certified inventory of trust or restricted land, including: (1) Accurate and adequate descriptions of all land and appurtenances; (2) all encumbrances on the land, including but not limited to leases, mortgages, and rights of way; (3) identification of any interests that represent less than 5% of the undivided interest in a parcel; and (4) identification of all income generating activity, such as leases or rights of way and any assignments of such income;

• A statement showing the balance of the decedent's individual Indian money (IIM) account on the date of death;

• Quarterly statements showing all distributions to and disbursements from the decedent's IIM account after the date of death;

• A copy of any cover letter that accompanied any wills, codicils or revocations we have returned to the testator;

• Documentation of any payments made on claims made against the estate;

• The record of every tribal or individual request to purchase a trust or restricted land interest at probate;

• The record of any individual request for a consolidation agreement, including a description, such as an Individual/Tribal Interest Report, of any lands not part of the decedent's estate that are proposed for inclusion in the consolidation agreement; and

• An affidavit by the probate staff, if applicable, certifying whether all documents required by the regulation (25 CFR part 15) to process a probate were located, certifying that the Department has complied with 25 U.S.C. 2201 et seq. in attempting to locate any missing potential heirs, legatees, and devisees, and identifying the steps that were taken to locate missing documents.

Authority for maintenance of the system:

5 U.S.C. 301, 551; 25 U.S.C. 2, 9, 372, 373, 373a, 373b, 374, and 2201 et seq.; 25 CFR part 15; 43 CFR part 4.

Routine uses of records maintained in the system including categories of users and the purposes of such uses:

The primary purposes of the system are listed below:

(1) To provide a central repository for records related to a given probate estate that can be forwarded to the Office of Hearings and Appeals (OHA) for adjudication and to monitor the progress of an estate through the probate process;

(2) To allow BIA employees to collect and gather information regarding potential heirs, legatees, devisees, and creditors of an estate;

(3) To allow Office of Special Trustee (OST) employees to document the status of decedent IIM accounts; and

(4) To provide OHA with a source of information regarding the estate.

Disclosures of these records outside the Department of the Interior will be limited to:

(1) A federal, state, local, or tribal agency or contractor where necessary and relevant to the preparation and administration of a probate case and subsequent distribution of estate assets as ordered by the deciding official;

(2)(a) To any of the following entities or individuals, when the circumstances set forth in (b) are met:

(i) The Department of Justice (DOJ);

(ii) a court, adjudicative or other administrative body;

(iii) a party in litigation before a court or adjudicative or administrative body; or

(iv) any DOI employee acting in his or her individual capacity if DOI or DOJ has agreed to represent that employee or pay for private representation of the employee;

(b) When:

(i) One of the following is a party to the proceeding or has an interest in the proceeding:

(A) DOI or any component of DOI;

(B) any DOI employee acting in his or her official capacity;

(C) any DOI employee acting in his or her individual capacity if DOI or DOJ has agreed to represent that employee or pay for private representation of the employee;

(D) the United States, when DOJ determines that DOI is likely to be affected by the proceeding; and

(ii) DOI deems the disclosure to be:

(A) Relevant and necessary to the proceeding; and

(B) Compatible with the purposes for which the records were compiled;

(3) To a congressional office in response to a written inquiry an individual covered by the system has made to the congressional office about him or herself, or a family member when the individual is a guardian or an estate administrator or representative;

(4) To an official of another Federal agency to provide information needed in the performance of official duties related to reconciling or reconstructing data files, in support of the functions for which the records were collected and maintained; and

(5) To representatives of the National Archives and Records Administration to conduct records management inspections under the authority of 44 U.S.C. 2903 and 2904.

Disclosure to consumer reporting agencies:

Pursuant to 5 U.S.C. 552a(b)(12), records can be disclosed to consumer reporting agencies as they are defined by the Fair Credit Reporting Act.

Policies and practices for storing, retrieving, accessing, retaining, and disposing of records in the system:

Storage:

Probate file records are maintained in manual form in file folders. Electronic records, including those created from hard copies, are maintained in the BIA probate computer system (ProTrac).

Retrievability:

Both manual and electronic records are retrieved by the name, owner identification number, Social Security Number, or account number of the decedent, devisee, heir, or claimant.

Safeguards:

Manual records are maintained in file cabinets under the control of authorized personnel and comply with minimum DOI safeguard requirements for maintaining Privacy Act system of records under 43 CFR 2.51. Electronic records are safeguarded by permissions set to “Authenticated Users” which require password login, and comply with DOI and National Institute of Standards and Technology cyber security requirements. A Privacy Impact Assessment has been completed for probate files and ProTrac in accordance with the E-Government Act of 2002 and OMB requirements for new and amended information systems.

Retention and disposal:

Records are retained permanently.

System manager(s) and address:

Director, Special Projects Office, Bureau of Indian Affairs, Western Regional Office, 400 N. 5th Street, 10th Floor, Phoenix, AZ 85004.

Notification procedures:

If you wish to determine if this system of records contains information about you, you may write to the System Manager at the address listed above. Your request must be in writing and signed by you and include contact information, such as a telephone number or address, where you can be reached should additional information be needed from you to confirm your identity. Provide the following information with your request:

(a) Proof of your identity;

(b) List of all of the names by which you have been known, such as maiden name or alias;

(c) Your Social Security Number;

(d) Mailing address;

(e) Tribe, tribal enrollment or census number;

(f) BIA home agency; and

(g) Time period(s) that records belonging to you may have been created or maintained, to the extent known by you.

To ensure proper handling of your request, you should include the words “PRIVACY ACT INQUIRY” at the top of the first page of your letter and on the envelope in which you mail the letter. For additional information refer to 43 CFR 2.60.

Record access procedures:

If you wish to obtain a copy of any records that the system may contain that are about you, you may write to the System Manager at the address listed above. Provide the following information with your request:

(a) Proof of your identity;

(b) List of all of the names by which you have been known, such as maiden name or alias;

(c) Your Social Security Number;

(d) Mailing address;

(e) Tribe, tribal enrollment or census number;

(f) BIA home agency; and

(g) Time period(s) that records belonging to you may have been created or maintained, to the extent known by you.

Your request must be in writing and signed by you. You should state whether you are seeking all of the records about you that may be maintained in the system, or only a specific portion of them. If you are only seeking a portion of them, you should describe those records you are seeking with sufficient detail to enable an individual familiar with the system to locate them with a reasonable amount of effort. To ensure proper handling of your request, you should include the notation, “PRIVACY ACT REQUEST FOR ACCESS” at the top of the first page of your letter and on the envelope in which you mail the letter. For additional information, refer to 43 CFR 2.63.

Contesting record procedures:

If you wish to request that any specific records that the system may contain that are about you be corrected, you may write to the System Manager at the address listed above. Provide the following information with your request:

(a) Proof of your identity;

(b) List of all of the names by which you have been known, such as maiden name or alias;

(c) Your Social Security Number;

(d) Mailing address;

(e) Tribe, tribal enrollment or census number;

(f) BIA home agency; and

(g) Time period(s) that records belonging to you may have been created or maintained, to the extent known by you.

Your request must be in writing and signed by you. Before you make such a request, you must first have requested access to your records, and have either inspected them or obtained copies of them, as described above. You must also identify which record or portion thereof you are contesting, indicating why you believe that it is not accurate, relevant, timely, or complete, and provide a copy of any documents in your possession that support your claim with your letter. You may also propose specific language to implement the changes sought. To ensure proper handling of your request, you should include the notation “PRIVACY ACT REQUEST FOR AMENDMENT” at the top of the first page of your letter and on the envelope in which you mail the letter. For additional information, refer to 43 CFR 2.71.

Record source categories:

Records in the system contain information submitted by potential heirs, legatees, devisees, creditors, and other parties knowledgeable about the decedent, the decedent's family or the decedent's estate, as well as information from other government entities (e.g., birth and death certificates).

Exemptions claimed for this system:

None.

[FR Doc. E7-3367 Filed 2-26-07; 8:45 am]

BILLING CODE 4310-W7-P